DEPARTMENT OF THE INTERIOR

Bureau of Land Management

[MT-926-02-1420-BJ]

Montana: Filing of Amended Protraction Diagram Plats

AGENCY: Bureau of Land Management, Montana State Office, Interior.

ACTION: Notice.

SUMMARY: The plats of the amended protraction diagram accepted September 27, 2001, of the following described lands are scheduled to be officially filed in the Montana State Office, Billings Montana, thirty (30) days from the date of this publication.

Tps. 6, 7, 8, and 9 S., Rs. 28, 29, 30, 31, and 32 E.

The plat, representing the Amended Protraction Diagram 10 Index of unsurveyed Townships 6, 7, 8, and 9 South, Ranges 28, 29, 30, 31, and 32 East, Principal Meridian, Montana, was accepted September 27, 2001.

T. 6 S., R. 30 E.

The plat, representing Amended Protraction Diagram 10 of unsurveyed Township 6 South, Range 30 East, Principal Meridian, Montana, was accepted September 27, 2001.

T. 7 S., R. 29 E.

The plat, representing Amended Protraction Diagram 10 of unsurveyed Township 7 South, Range 29 East, Principal Meridian, Montana, was accepted September 27, 2001.

T. 7 S., R. 30 E.

The plat, representing Amended Protraction Diagram 10 of unsurveyed Township 7 South, Range 30 East, Principal Meridian, Montana, was accepted September 27, 2001.

T. 7 S., R. 31 E.

The plat, representing Amended Protraction Diagram 10 of unsurveyed Township 7 South, Range 31 East, Principal Meridian, Montana, was accepted September 27, 2001.

T. 8 S., R. 29 E.

The plat, representing Amended Protraction Diagram 10 of unsurveyed Township 8 South, Range 29 East, Principal Meridian, Montana, was accepted September 27, 2001.

T. 8 S., R. 30 E.

The plat, representing Amended Protraction Diagram 10 of unsurveyed Township 8 South, Range 30 East, Principal Meridian, Montana, was accepted September 27, 2001.

T. 8 S., R. 31 E.

The plat, representing Amended Protraction Diagram 10 of unsurveyed Township 8 South, Range 31 East, Principal Meridian, Montana, was accepted September 27, 2001.

T. 8 S., R. 32 E.

The plat, representing Amended Protraction Diagram 10 of unsurveyed Township 8 South, Range 32 East, Principal Meridian, Montana, was accepted September 27, 2001.

T. 9 S., R. 28 E.

The plat, representing Amended Protraction Diagram 10 of unsurveyed Township 9 South, Range 28 East, Principal Meridian, Montana, was accepted September 27, 2001.

T. 9 S., R. 29 E.

The plat, representing Amended Protraction Diagram 10 of unsurveyed Township 9 South, Range 29 East, Principal Meridian, Montana, was accepted September 27, 2001.

T. 9 S., R. 30 E.

The plat, representing Amended Protraction Diagram 10 of unsurveyed Township 9 South, Range 30 East, Principal Meridian, Montana, was accepted September 27, 2001.

T. 9 S., R. 31 E.

The plat, representing Amended Protraction Diagram 10 of unsurveyed Township 9 South, Range 31 East, Principal Meridian, Montana, was accepted September 27, 2001.

T. 9 S., R. 32 E.

The plat, representing Amended Protraction Diagram 10 of unsurveyed Township 9 South, Range 32 East, Principal Meridian, Montana, was accepted September 27, 2001.

A copy of the preceding described plats of the amended protraction diagram accepted September 27, 2001, will be immediately placed in the open files and will be available to the public as a matter of information.

If a protest against this amended protraction diagram, accepted September 27, 2001, as shown on these plats, is received prior to the date of the official filings, the filings will be stayed pending consideration of the protests.

These particular plats of the amended protraction diagram will not be officially filed until the day after all protests have been accepted or dismissed and become final or appeals from the dismissal affirmed.

FOR FURTHER INFORMATION CONTACT: Bureau of Land Management, 5001 Southgate Drive, P.O. Box 36800, Billings, Montana 59107-6800.

Dated: October 5, 2001.
Steven G. Schey,
Chief Cadastral Surveyor, Division of Resources.

[FR Doc. 01-27920 Filed 11-6-01; 8:45 am]

BILLING CODE 4310-DN-P